DEPARTMENT OF HOMELAND SECURITY

Coast Guard

[USCG-2003-15875]

Towing Safety Advisory Committee

AGENCY: Coast Guard, DHS.

ACTION: Notice of meetings.

SUMMARY: The Towing Safety Advisory Committee (TSAC) and its working groups will meet as required to discuss various issues relating to shallow-draft inland and coastal waterway navigation and towing safety. All meetings will be open to the public.

DATES: TSAC will meet on Wednesday, September 10, 2003, from 8 a.m. to 2 p.m. The working groups will meet on the previous day, Tuesday, September 9, 2003, from 9 a.m. to 3:30 p.m. These meetings may close early if all business is finished. Written material for and requests to make oral presentations at the meetings should reach the Coast Guard on or before September 3, 2003. Requests to have a copy of your material distributed to each member of the Committee or working groups prior to the meetings should reach the Coast Guard on or before August 27, 2003.

ADDRESSES: TSAC will meet in Room 2415, U.S. Coast Guard Headquarters, 2100 Second Street, SW., Washington, DC 20593-0001. The working groups will first meet in the same room and then, if necessary, move to separate spaces designated at that time. Send written material and requests to make oral presentations to Mr. Gerald P. Miante, Commandant (G-MSO-1), U.S. Coast Guard Headquarters, G-MSO-1, Room 1210, 2100 Second Street SW., Washington, DC 20593-0001. This notice and related documents are available on the Internet at http://dms.dot.gov under the docket number USCG-2003-15875.

FOR FURTHER INFORMATION CONTACT: Mr. Gerald P. Miante, Assistant Executive Director, or Petty Officer Bryan Wick, telephone 202-267-0214, fax 202-267-4570, or e-mail at: gmiante@comdt.uscg.mil.

SUPPLEMENTARY INFORMATION: Notice of these meetings is given under the Federal Advisory Committee Act, 5 U.S.C. App. 2, (Pub. L. 92-463, 86 Stat. 770, as amended).

Agenda of Committee Meeting

The agenda tentatively includes the following items:

(1) Status Report of the Crew Alertness Working Group.

(2) Status Report of the Towing Vessel Regulatory Review Working Group.

(3) Status Report of the Maritime Security Working Group.

(4) Status Report of the Commercial/Recreational Boating Interface Working Group.

(5) Presentation on the Final Rule for Licensing and Manning for Officers of Towing Vessels.

(6) Presentation on the Interim Rule for Fire-Suppression Systems and Voyage Planning for Towing Vessels.

(7) Presentation on the Towing Vessel Safety Program, SOLAS and MARPOL Amendments, and Several Navigation and Vessel Inspection Circular (NVIC) Updates.

(8) Presentation on mariner deaths during nighttime barge fleeting operations.

(9) Presentation on current analysis capability within MISLE.

Procedural

All meetings are open to the public. Please note that the meetings may close early if all business is finished. Members of the public may make oral presentations during the meetings. If you would like to make an oral presentation at a meeting, please notify the Assistant Executive Director no later than September 3, 2003. Written material for distribution at a meeting should reach the Coast Guard no later than September 3, 2003. If you would like a copy of your material distributed to each member of the committee or working groups in advance of a meeting, please submit 20 copies to the Assistant Executive Director no later than August 27, 2003. You may also submit this material electronically to the e-mail address in FOR FURTHER INFORMATION CONTACT, no later than September 3, 2003.

Information on Services for Individuals with Disabilities

For information on facilities or services for individuals with disabilities or to request special assistance at the meetings, contact the Assistant Executive Director as soon as possible.

Dated: August 7, 2003.
Joseph J. Angelo,
Director of Standards, Marine Safety, Security & Environmental Protection.

[FR Doc. 03-20651 Filed 8-12-03; 8:45 am]

BILLING CODE 4910-15-P